DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received no later than December 22, 2014.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Partnerships for Care (P4C). Supplemental Funding Progress Reports

OMB No.: 0915-xxxx—New.

Abstract: Partnerships for Care (P4C): Health Departments and Health Centers Collaborating to Improve HIV Health Outcomes is a 3-year cross-HHS project funded through the Secretary's Minority AIDS Initiative (MAI) Fund and the Affordable Care Act (ACA). The goals of the P4C project are to build sustainable partnerships among CDC-funded state health departments (including Massachusetts, New York, Maryland, and Florida) and HRSA-funded health centers to support expanded HIV service delivery in communities highly impacted by HIV, especially among racial/ethnic minorities. State health departments and health centers will work together to increase the identification of undiagnosed HIV infection, establish new access points for HIV care and treatment, and improve HIV outcomes along the continuum of care for people living with HIV (PLWH) (see P4C fact sheet at http://www.cdc.gov/hiv/prevention/demonstration/p4c/index.html and HHS press release at http://www.hhs.gov/news/press/2014pres/07/20140715a.html). Each eligible health center (22 across four funded states) will receive up to $500,000 annually in HRSA supplemental funding (totaling $33M across the 3-year project period) to integrate high-quality, comprehensive HIV services into their primary care programs; and to work in collaboration with their state health department to (1) identify people with undiagnosed HIV infection, (2) link newly diagnosed individuals to care, and (3) retain patients living with HIV in care. Health centers must implement activities in five focus areas including workforce development, infrastructure development, HIV service delivery, partnership development, and quality improvement and evaluation. Health centers must demonstrate progress toward implementing all required P4C activities and improving health care outcomes across the HIV care continuum (see http://aids.gov/federal-resources/policies/care-continuum/).

Need and Proposed Use of the Information: HRSA/Bureau of Primary Health Care (BPHC) proposes standardized data collection and reporting by the 22 health centers participating in the P4C project to achieve the following purposes:

1. Ensure appropriate stewardship of federal funds.

2. Support HHS efforts to streamline HIV data collection and reporting.

3. Assess health center progress in implementing approved work plans and meeting other P4C goals and objectives.

4. Assess health center progress in improving HIV outcomes across the HIV care continuum.

5. Support health center use of patient data to improve quality of HIV care.

6. Identify training and technical assistance needs among participating health centers.

7. Support identification and dissemination of effective models and promising practices for the integration of HIV services into primary care.

Proposed data collection closely aligns with (1) core HIV indicators established by HHS (see http://blog.aids.gov/2012/08/secretary-sebelius-approves-indicators-for-monitoring-hhs-funded-hiv-services.html), (2) measures endorsed by the National Quality Forum (NQF) (see http://www.qualityforum.org/News_And_Resources/Press_Releases/2013/NQF_Endorses_Infectious_Disease_Measures.aspx), (3) performance measures used by the Ryan White HIV/AIDS Program (http://hab.hrsa.gov/deliverhivaidscare/habperformmeasures.html), and (4) the Health Center Program's Uniform Data System (UDS) (see http://bphc.hrsa.gov/healthcenterdatastatistics/index.html#whatisuds). Specifically, HRSA/BPHC proposes submission of bi-annual progress reports (five total) by participating health centers to include aggregate, HIV-related, patient data (quantitative), and other information regarding implementation of approved work plans (narrative).

Likely Respondents: Health Center Program grantees receiving supplemental awards under the P4C project (22 total).

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Form name | Number of respondents | Number of responses per respondent | Total responses | Average burden per response (in hours) | Total burden hours
P4C Progress Report | 22 | 2 | 44 | 28 | 1232
Total | 22 | 2 | 44 | 28 | 1232

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: October 15, 2014.
Jackie Painter,
Acting Director, Division of Policy and Information Coordination.

[FR Doc. 2014-25198 Filed 10-22-14; 8:45 am]

BILLING CODE 4165-15-P